CONSUMER PRODUCT SAFETY COMMISSION

[Docket No. CPSC-2009-0044]

Proposed Extension of Approval of Information Collection; Comment Request: Safety Standard for Cigarette Lighters

AGENCY: Consumer Product Safety Commission.

ACTION: Notice.

SUMMARY: As required by the Paperwork Reduction Act of 1995 (44 U.S.C. Chapter 35), the Consumer Product Safety Commission (CPSC or Commission) requests comments on a proposed request for an extension of approval of a collection of information from manufacturers and importers of disposable and novelty cigarette lighters. This collection of information consists of testing and recordkeeping requirements in certification regulations implementing the Safety Standard for Cigarette Lighters (16 CFR part 1210). The Commission will consider all comments received in response to this notice before requesting an extension of approval of this collection of information from the Office of Management and Budget (OMB).

DATES: The Office of the Secretary must receive comments not later than March 15, 2013.

ADDRESSES: You may submit comments, identified by Docket No. CPSC-2009-0044, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: In 1993, the Commission issued the Safety Standard for Cigarette Lighters (16 CFR part 1210) under provisions of the Consumer Product Safety Act (CPSA) (15 U.S.C. 2051 et seq.) to eliminate or reduce risks of death and burn injury from fires accidentally started by children playing with cigarette lighters. The standard contains performance requirements for disposable and novelty lighters that are intended to make cigarette lighters that are subject to the standard resist operation by children younger than 5 years of age.

A. Certification Requirements

Section 14(a) of the CPSA (15 U.S.C. 2063(a)) requires manufacturers, importers, and private labelers of a consumer product subject to a consumer product safety standard under the CPSA or similar rule, ban, standard, or regulation under any other act enforced by the Commission to issue a certificate stating that the product complies with all applicable rules, bans, standards, or regulations. Section 14(a) of the CPSA also requires that the certificate of compliance must be based on a test of each product or upon a reasonable testing program and specify each such rule, ban, standard or regulation applicable to the product.

Section 14(b) of the CPSA (15 U.S.C. 2063(b)) authorizes the Commission to issue regulations to prescribe a reasonable testing program to support certificates of compliance with a consumer product safety standard under the CPSA or similar rule, ban, standard, or regulation under any other act enforced by the Commission. Section 16(b) of the CPSA (15 U.S.C 2065(b)) authorizes the Commission to issue rules to require that firms “establish and maintain” records to permit the Commission to determine compliance with rules issued under the authority of the CPSA.

The Commission has issued regulations prescribing requirements for a reasonable testing program to support certificates of compliance with the standard for cigarette lighters. These regulations require manufacturers and importers to submit a description of each model of lighter, results of surrogate qualification tests for compliance with the standard, and other information before the introduction of each model of lighter in commerce. These regulations also require manufacturers, importers, and private labelers of disposable and novelty lighters to establish and maintain records to demonstrate successful completion of all required tests to support the certificates of compliance that they issue. 16 CFR part 1210, Subpart B.

The Commission uses the information compiled and maintained by manufacturers, importers, and private labelers of disposable and novelty lighters to protect consumers from risks of accidental deaths and burn injuries associated with those lighters. More specifically, the Commission uses this information to determine whether lighters comply with the standard by resisting operation by young children. The Commission also uses this information to obtain corrective actions if disposable or novelty lighters fail to comply with the standard in a manner that creates a substantial risk of injury to the public.

OMB approved the collection of information in the certification regulations for cigarette lighters under control number 3041-0116. OMB's most recent extension of approval will expire on February 28, 2013. The Commission proposes to request an extension of approval for this collection of information requirements.

B. Estimated Burden

The cost of the rule's testing requirement is the cost of testing, either by the firm or by outside contractors. In fiscal year 2012, 30 firms submitted new lighter models. The total number of models that were child-tested (new models) was 13, and the number of lighters that were comparable to previously tested models (comparable models) was 132. If tested through outside contractors, CPSC staff estimates the cost per test to be between $15,000 and $25,000, and $20,000 on average. If 13 total tests are done annually by outside contractors, the cost would be approximately $260,000. If tests are conducted in-house, CPSC staff estimates that testing a new model is expected to take about 90 hours per model. The total testing time for 13 models, if conducted in-house, would be 1,170 hours. Based on an hourly compensation for the time required for testing is $61.75 per hour (U.S. Bureau of Labor Statistics, “Employer Costs for Employee Compensation,” June 2012, Table 9, total compensation for management, professional, and related workers in goods-producing industries: http://www.bls.gov/ncs), the in-house testing cost would be approximately 72,245. The total industry cost of the testing component for this regulation would be in the range of $72,248 to $260,000 per year, depending on the method chosen.

The cost of the recordkeeping requirement is composed of two separate components: recordkeeping for new models and recordkeeping for comparable models. The time consumed in recordkeeping for new models has been estimated at 20 hours per model. Thus, the total time consumed for recordkeeping of new models would be 260 hours (20 hours × 13 models). We estimate the hourly compensation for the time required for recordkeeping is $27.64 (U.S. Bureau of Labor Statistics, “Employer Costs for Employee Compensation,” June 2012, Table 9, total compensation for all sales and office workers in goods-producing, private industries: http://www.bls.gov/ncs). The estimated annual cost of recordkeeping for new models is about $7,186 (260 hours × $27.64).

In fiscal year 2012, 132 comparable models were submitted to the CPSC. While firms would bear no testing costs for the comparable models, the time for recordkeeping is estimated at 3 hours per model. Thus, an estimated 396 hours (132 models × 3 hours). We estimate the hourly compensation for the time required for record keeping is $27.64 (U.S. Bureau of Labor Statistics, “Employer Costs for Employee Compensation,” June 2012, Table 9, total compensation for all sales and office workers in goods-producing, private industries: http://www.bls.gov/ncs). The estimated annual cost of recordkeeping for comparable models is about $10,945 (396 hours × $27.64). The estimated total recordkeeping costs for new models and comparable models would be approximately $18,131 ($7,186 + $10,945).

Because the number of responses to the CPSC includes paperwork associated with the testing for new models, as well as comparable models, we expect that the total number of responses will be 145 per year (13 tested + 132 comparisons). The total number of hours consumed for these responses would be 1,826 hours per year, including new model tests (1,170 hours if done in-house), new model recordkeeping (260 hours), and recordkeeping for comparable models (396 hours). The Commission estimates the total cost for firms to test, and prepare, maintain, and submit records to the CPSC in compliance with the lighter regulation would be in the range of $90,379 to $278,132, depending upon the test method chosen.

The estimated total cost of this collection to the federal government is $344,618. This represents two full-time employees annually for compliance activities. This estimate uses an annual total compensation of $119,238 (the equivalent of a GS-14 Step 5 employee) with an additional 30.8 percent added for benefits (U.S. Bureau of Labor Statistics, “Employer Costs for Employee Compensation,” September 2012, Table 1, percentage of wages and salaries for all civilian management, professional, and related employees), for a total annual compensation per full-time employee of $172,309.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: January 9, 2013.
Todd A. Stevenson,
Secretary, Consumer Product Safety Commission.

[FR Doc. 2013-00522 Filed 1-11-13; 8:45 am]

BILLING CODE 6355-01-P